DEPARTMENT OF ENERGY

Federal Energy Regulatory Commission

[Project No. 8402-003]

Rapidan Mill, LLC, American Climate Partners; Notice of Transfer of Exemption

1. On July 21, 2022, Rapidan Mill, LLC, exemptee for the 105-Kilowatt Rapidan Mill Hydroelectric Project No. 8402, filed a letter notifying the Commission that the project was transferred from Rapidan Mill, LLC to American Climate Partners. The exemption from licensing was originally issued on June 27, 1985.¹ The project is located on the Rapidan River in Culpeper and Orange counties, Virginia. The transfer of an exemption does not require Commission approval.

¹ Melvin R. Hall, 81 FERC ¶ 62,412 (1985). On March 27, 2007, the project was transferred to Rapidan Mill, LLC.

2. American Climate Partners is now the exemptee of the Rapidan Mill Hydroelectric Project No. 8402. All correspondence must be forwarded to Mr. Michael Collins, American Climate Partners, 7026 Old Rapidan Road (State Rt. 673), Rapidan, Virginia 22960, Phone: (540) 672-2542, Email: info@naturalcapital.us.

Dated: September 12, 2022.
Kimberly D. Bose,
Secretary.

[FR Doc. 2022-20063 Filed 9-15-22; 8:45 am]

BILLING CODE 6717-01-P